DEPARTMENT OF TRANSPORTATION

Federal Aviation Administration

14 CFR Part 39

[Docket No. FAA-2016-9573; Directorate Identifier 2016-NM-149-AD; Amendment 39-18938; AD 2017-13-08]

RIN 2120-AA64

Airworthiness Directives; Airbus Airplanes

AGENCY: Federal Aviation Administration (FAA), Department of Transportation (DOT).

ACTION: Final rule.

SUMMARY: We are superseding Airworthiness Directive (AD) 2015-23-13, for all Airbus Model A318 and A319 series airplanes, Model A320-211, -212, -214, -231, -232, and -233 airplanes, and Model A321-111, -112, -131, -211, -212, -213, -231, and -232 airplanes. AD 2015-23-13 required modification of the pin programming of the flight warning computer (FWC) to activate the stop rudder input warning (SRIW) logic; and an inspection to determine the part numbers of the FWC and the flight augmentation computer (FAC), and replacement of the FWC and FAC if necessary. This new AD, for certain airplanes, also requires accomplishment of additional modification instructions to install the minimum FWC and FAC configuration compatible with SRIW activation. This AD was prompted by a determination that, in specific flight conditions, the allowable load limits on the vertical tail plane could be reached and possibly exceeded. We are issuing this AD to address the unsafe condition on these products.

DATES: This AD is effective August 3, 2017.

The Director of the Federal Register approved the incorporation by reference of certain publications listed in this AD as of August 3, 2017.

The Director of the Federal Register approved the incorporation by reference of certain other publications listed in this AD as of December 29, 2015 (80 FR 73099, November 24, 2015).

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9573.

Examining the AD Docket

You may examine the AD docket on the Internet at http://www.regulations.gov by searching for and locating Docket No. FAA-2016-9573; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2015-23-13, Amendment 39-18330 (80 FR 73099, November 24, 2015) (“AD 2015-23-13”). AD 2015-23-13 applied to all Airbus Model A318 and A319 series airplanes, Model A320-211, -212, -214, -231, -232, and -233 airplanes, and Model A321-111, -112, -131, -211, -212, -213, -231, and -232 airplanes. The NPRM published in the Federal Register on February 15, 2017 (82 FR 10721) (“the NPRM”). The NPRM was prompted by a determination that, for certain airplanes, additional modification instructions must be accomplished to allow installation of the minimum FWC and FAC configuration compatible with SRIW activation. The NPRM proposed to continue to require modification of the pin programming of the FWC to activate the SRIW logic; and an inspection to determine the part numbers of the FWC and the FAC, and replacement of the FWC and FAC if necessary. The NPRM also proposed, for certain airplanes, to also require accomplishment of additional modification instructions to install the minimum FWC and FAC configuration compatible with SRIW activation. We are issuing this AD to prevent detachment of the vertical tail plane and consequent loss of control of the airplane.

The European Aviation Safety Agency (EASA), which is the Technical Agent for the Member States of the European Union, has issued EASA Airworthiness Directive 2016-0132, dated July 5, 2016; corrected July 20, 2016 (referred to after this as the Mandatory Continuing Airworthiness Information, or “the MCAI”), to correct an unsafe condition for all Airbus Model A318 and A319 series airplanes, Model A320-211, -212, -214, -231, -232, and -233 airplanes, and Model A321-111, -112, -131, -211, -212, -213, -231, and -232 airplanes. The MCAI states:

During design reviews that were conducted following safety recommendations related to in-service incidents and one accident on another aircraft type, it has been determined that, in specific flight conditions, the allowable load limits on the vertical tail plane could be reached and possibly exceeded.

This condition, if not corrected, could lead to in-flight detachment of the vertical tail plane, possibly resulting in loss of control of the aeroplane.

To address this unsafe condition, Airbus developed modifications within the flight augmentation computer (FAC) to reduce the vertical tail plane stress and to activate a conditional aural warning within the flight warning computer (FWC) to further protect against pilot induced rudder doublets.

Consequently, EASA issued AD 2014-0217 (later revised) [which corresponds to FAA AD 2015-23-13] to require installation and activation of the stop rudder input warning (SRIW) logic. In addition, that [EASA] AD required upgrades of the FAC and FWC, to introduce the SRIW logic and SRIW aural capability, respectively. After modification, the [EASA] AD prohibited (re)installation of certain Part Number (P/N) FWC and FAC.

Since EASA AD 2014-0217R1 was issued, Airbus made available additional modification instructions that, for certain aeroplanes, must be accomplished to allow installation of the minimum FWC and FAC configuration compatible with SRIW activation.

For the reasons described above, this [EASA] AD retains the requirements of EASA AD 2014-0217R1, which is superseded, and includes reference to modification instructions, which must be accomplished on certain aeroplanes.

This [EASA] AD is republished to remove a typographical error in Appendix 1 [of the EASA AD].

You may examine the MCAI in the AD docket on the Internet at http://www.regulations.gov by searching for and locating Docket No. FAA-2016-9573.

Comments

We gave the public the opportunity to participate in developing this AD. The following presents the comments received on the NPRM and the FAA's response to each comment.

Request for Technical Details

Mr. Geoffrey Barrance stated that the public disclosure in the NPRM did not provide sufficient technical details and disclosure relative to the unsafe condition; and that, presumably, the actions required by this proposed AD are to improve the protection provided by the SRIW logic. Mr. Barrance noted that the purpose of publication in the Federal Register is to provide public disclosure. We infer the commenter is requesting that we provide additional technical details.

We do not agree with the commenter's request. The technical details associated with correcting the unsafe condition were already provided in the previously published AD, AD 2015-23-13. That AD and all service information that was incorporated by reference in AD 2015-23-13 is posted on the public docket in the Federal Docket Management System and is available on the Internet at http://www.regulations.gov by searching for and locating Docket No. FAA-2015-0251. This superseding AD only mandates accomplishment of additional modification instructions to ensure design compatibility. We have not revised this AD in this regard.

Request for Review of Design Approval Process and Compliance Time Determination

Mr. Geoffrey Barrance asserted that this rulemaking action is a result of failure of design, development, oversight and approval processes at the EASA and the FAA. Mr. Barrance asserted that the FAA must do a comprehensive review of these processes and evaluate the extent that the flying public has been exposed to risks due to delayed processes in releasing this AD.

We do not agree with Mr. Geoffrey Barrance's comments. Mr. Barrance has submitted no data to substantiate his claims. This rulemaking action simply supersedes a previous AD in order to mandate accomplishment of additional modification instructions to ensure design compatibility. Furthermore, we and our bilateral partner, EASA, work closely with Airbus to ensure that design solutions are certificated based on applicable airworthiness regulations prior to mandating those solutions to mitigate safety risks. We also ensure that all appropriate instructions and parts are available at the appropriate time to comply with AD requirements. As a component of our safety management system, we continuously evaluate our certification system and procedures and improve them when problems are found. We have not revised this AD in this regard.

Request for Compliance Time Review

The Air Line Pilots Association, International (ALPA) stated that it agrees with the NPRM, but requested that we revisit the compliance timeframe to ensure it is aligned with the intent of the AD.

The EASA has determined the compliance times based on the overall risk to the fleet, including the severity of the failure and the likelihood of the failure's occurrence. The FAA and EASA worked with Airbus to ensure that all appropriate action(s) are taken at appropriate times to mitigate the risk to the fleet. We have not changed this AD in this regard.

Request for Correction of Typographical Error

Jetblue Airways (Jetblue) requested that we correct a typographical error in paragraph (i)(10) of the NPRM. Jetblue stated that it should be “FWC H2-F7,” not “FWC H-F7.”

We agree with the commenter's request and have revised this AD accordingly.

Request for an Alternative Method of Compliance (AMOC)

Jetblue requested that we include an AMOC for FWC standard H2-F9D (P/N 350E053021818) in this AD.

We do not agree to include an AMOC in this AD because certain later approved parts are already addressed in paragraph (l) of this AD. To clarify, FWCs approved after March 5, 2015, are an approved method of compliance with the requirements of paragraph (h) or (j) of this AD, provided the requirements specified in paragraphs (l)(1) and (l)(2) of this AD are met. We have not changed this AD in this regard.

Conclusion

We reviewed the available data, including the comments received, and determined that air safety and the public interest require adopting this AD with the change described previously and minor editorial changes. We have determined that these changes:

• Are consistent with the intent that was proposed in the NPRM for correcting the unsafe condition; and

• Do not add any additional burden upon the public than was already proposed in the NPRM.

Related Service Information Under 1 CFR Part 51

Airbus has issued Service Bulletin A320-22-1480, Revision 02, dated March 30, 2015, and Service Bulletin A320-22-1480, Revision 03, dated October 13, 2015. This service information describes procedures for modifying the pin programming to activate the SRIW logic. These documents are distinct due to editorial revisions.

Airbus has also issued the following service information. The service information describes procedures for replacing FWCs and FACs. These documents are distinct since they apply to different airplane configurations and software packages.

• Airbus Service Bulletin A320-22-1375, dated January 15, 2014.

• Airbus Service Bulletin A320-22-1427, Revision 05, including Appendix 01, dated November 24, 2014.

• Airbus Service Bulletin A320-22-1447, Revision 03, dated April 21, 2015.

• Airbus Service Bulletin A320-22-1454, dated February 12, 2014.

• Airbus Service Bulletin A320-22-1461, Revision 07, including Appendix 01, dated March 23, 2015.

• Airbus Service Bulletin A320-22-1502, dated November 14, 2014.

• Airbus Service Bulletin A320-22-1539, Revision 01, dated February 24, 2016.

• Airbus Service Bulletin A320-22-1553, dated March 21, 2016.

• Airbus Service Bulletin A320-22-1554, dated April 19, 2016.

• Airbus Service Bulletin A320-31-1414, Revision 03, dated September 15, 2014.

This service information is reasonably available because the interested parties have access to it through their normal course of business or by the means identified in the ADDRESSES section.

Costs of Compliance

We estimate that this AD will affect 1,032 airplanes of U.S. registry.

The actions required by AD 2015-23-13, and retained in this AD take about 3 work-hours per product, at an average labor rate of $85 per work-hour. Based on these figures, the estimated cost of the actions that are required by AD 2015-23-13 is $255 per product.

We also estimate that it would take about 3 work-hours per product to comply with the basic requirements of this AD. The average labor rate is $85 per work-hour. Based on these figures, we estimate the cost of this AD on U.S. operators to be $263,160, or $255 per product.

In addition, we estimate that any necessary follow-on actions will take about 6 work-hours (3 work-hours for an FWC and 3 work-hours for an FAC), and require parts costing $88,000 (FAC), for a cost of $88,510 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-23-13, Amendment 39-18330 (80 FR 73099, November 24, 2015), and adding the following new AD:

2017-13-08 Airbus: Amendment 39-18938; Docket No. FAA-2016-9573; Directorate Identifier 2016-NM-149-AD.

(a) Effective Date

This AD is effective August 3, 2017.

(b) Affected ADs

This AD replaces AD 2015-23-13, Amendment 39-18330 (80 FR 73099, November 24, 2015) (“AD 2015-23-13”).

(c) Applicability

This AD applies to the airplanes identified in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 22, Auto Flight; 31, Instruments.

(e) Reason

This AD was prompted by a determination that, in specific flight conditions, the allowable load limits on the vertical tail plane could be reached and possibly exceeded. Exceeding allowable load limits could result in detachment of the vertical tail plane. We are issuing this AD to prevent detachment of the vertical tail plane and consequent loss of control of the airplane.

(f) Compliance

Comply with this AD within the compliance times specified, unless already done.

(g) Retained Pin Programming Modification, With New Service Information

This paragraph restates the requirements of paragraph (g) of AD 2015-23-13, with new service information. Within 48 months after December 29, 2015 (the effective date of AD 2015-23-13), modify the pin programming to activate the stop rudder input warning (SRIW) logic, in accordance with the Accomplishment Instructions of Airbus Service Bulletin A320-22-1480, Revision 02, dated March 30, 2015; or Airbus Service Bulletin A320-22-1480, Revision 03, dated October 13, 2015. As of the effective date of this AD, use only Airbus Service Bulletin A320-22-1480, Revision 03, dated October 13, 2015.

(h) Retained Inspection To Determine Part Numbers (P/Ns), Flight Warning Computer (FWC) and Flight Augmentation Computer (FAC) Replacement, With New Replacement Part Numbers

This paragraph restates the requirements of paragraph (h) of AD 2015-23-13, with new replacement part numbers. Prior to or concurrently with the actions required by paragraph (g) of this AD: Inspect the part numbers of the FWC and the FAC installed on the airplane. If any FWC or FAC having a part number identified in paragraph (h)(1) or (h)(2) of this AD, as applicable, is installed on an airplane, prior to or concurrently with the actions required by paragraph (g) of this AD, replace all affected FWCs and FACs with a unit having a part number identified in figure 1 to paragraph (h)(3) of this AD, in accordance with the Accomplishment Instructions of the applicable Airbus service information specified in paragraph (i) of this AD. As of the effective date of this AD, use only figure 1 to paragraph (h)(3) of this AD to identify the replacement part numbers.

(1) Paragraphs (h)(1)(i) through (h)(1)(xvii) of this AD identify FWCs having part numbers that are non-compatible with the SRIW activation required by paragraph (g) of this AD.

(i) 350E017238484 (H1-D1).

(ii) 350E053020303 (H2-E3).

(iii) 350E016187171 (C5).

(iv) 350E053020404 (H2-E4).

(v) 350E017248685 (H1-D2).

(vi) 350E053020606 (H2-F2).

(vii) 350E017251414 (H1-E1).

(viii) 350E053020707 (H2-F3).

(ix) 350E017271616 (H1-E2).

(x) 350E053021010 (H2-F3P).

(xi) 350E018291818 (H1-E3CJ).

(xii) 350E053020808 (H2-F4).

(xiii) 350E018301919 (H1-E3P).

(xiv) 350E053020909 (H2-F5).

(xv) 350E018312020 (H1-E3Q).

(xvi) 350E053021111 (H2-F6).

(xvii) 350E053020202 (H2-E2).

(2) Paragraphs (h)(2)(i) through (h)(2)(xxxiv) of this AD identify FACs having part numbers that are non-compatible with the SRIW activation required by paragraph (g) of this AD.

(i) B397AAM0202.

(ii) B397BAM0101.

(iii) B397BAM0512.

(iv) B397AAM0301.

(v) B397BAM0202.

(vi) B397BAM0513.

(vii) B397AAM0302.

(viii) B397BAM0203.

(ix) B397BAM0514.

(x) B397AAM0303.

(xi) B397BAM0305.

(xii) B397BAM0515.

(xiii) B397AAM0404.

(xiv) B397BAM0406.

(xv) B397BAM0616.

(xvi) B397AAM0405.

(xvii) B397BAM0407.

(xviii) B397BAM0617.

(xix) B397AAM0506.

(xx) B397BAM0507.

(xxi) B397BAM0618.

(xxii) B397AAM0507.

(xxiii) B397BAM0508.

(xxiv) B397BAM0619.

(xxv) B397AAM0508.

(xxvi) B397BAM0509.

(xxvii) B397BAM0620.

(xxviii) B397AAM0509.

(xxix) B397BAM0510.

(xxx) B397CAM0101.

(xxxi) B397AAM0510.

(xxxii) B397BAM0511.

(xxxiii) B397CAM0102.

(xxxiv) Soft P/N G2856AAA01 installed on hard P/N C13206AA00.

(3) As of the effective date of this AD, figure 1 to paragraph (h)(3) of this AD identifies the FACs and FWCs having the part numbers that are compatible with SRIW activation required by paragraph (g) of this AD.

BILLING CODE 4910-13-P

BILLING CODE 4910-13-C

(i) Retained Service Information for Actions Required by Paragraph (h) of This AD, With New Service Information

This paragraph restates the requirements of paragraph (i) of AD 2015-23-13, with new service information. Do the actions required by paragraph (h) of this AD in accordance with the Accomplishment Instructions of the applicable Airbus service information specified in paragraphs (i)(1) through (i)(10) of this AD.

(1) Airbus Service Bulletin A320-22-1375, dated January 15, 2014 (FAC 621 hard B).

(2) Airbus Service Bulletin A320-22-1427, Revision 05, including Appendix 01, dated November 24, 2014 (FAC 622 hard B).

(3) Airbus Service Bulletin A320-22-1447, Revision 03, dated April 21, 2015 (FAC CAA02 hard C).

(4) Airbus Service Bulletin A320-22-1454, dated February 12, 2014 (FAC CAA02).

(5) Airbus Service Bulletin A320-22-1461, Revision 07, including Appendix 01, dated March 23, 2015 (FAC 623 hard B).

(6) Airbus Service Bulletin A320-22-1502, dated November 14, 2014 (FAC CAA02).

(7) Airbus Service Bulletin A320-22-1539, Revision 01, dated February 24, 2016 (FAC CAA03).

(8) Airbus Service Bulletin A320-22-1553, dated March 21, 2016 (FAC B624).

(9) Airbus Service Bulletin A320-22-1554, dated April 19, 2016 (FAC CAA03).

(10) Airbus Service Bulletin A320-31-1414, Revision 03, dated September 15, 2014 (FWC H2-F7).

(j) Retained Exclusion From Actions Required by Paragraphs (g) and (h) of This AD, With No Changes

This paragraph restates the requirements of paragraph (j) of AD 2015-23-13, with no changes. An airplane on which Airbus Modification 154473 has been embodied in production is excluded from the requirements of paragraphs (g) and (h) of this AD, provided that within 30 days after December 29, 2015 (the effective date of AD 2015-23-13), an inspection of the part numbers of the FWC and the FAC installed on the airplane is done to determine that no FWC having a part number listed in paragraph (h)(1) of this AD, and no FAC having a part number listed in paragraph (h)(2) of this AD, has been installed on that airplane since date of manufacture. A review of airplane maintenance records is acceptable in lieu of this inspection if the part numbers of the FWC and FAC can be conclusively determined from that review. If any FWC or FAC having a part number identified in paragraph (h)(1) or (h)(2) of this AD, as applicable, is installed on a post Airbus Modification 154473 airplane: Within 30 days after December 29, 2015, do the replacement required by paragraph (h) of this AD.

(k) Retained Parts Installation Prohibitions, With New Requirements

This paragraph restates the parts installation prohibitions specified in paragraph (k) of AD 2015-23-13, with new requirements.

(1) After modification of an airplane as required by paragraphs (g), (h), or (j) of this AD: Do not install on that airplane any FWC having a part number listed in paragraph (h)(1) of this AD or any FAC having a part number listed in paragraph (h)(2) of this AD.

(2) For an airplane that does not have a FWC having a part number listed in paragraph (h)(1) of this AD and does not have a FAC having a part number listed in paragraph (h)(2) of this AD: As of the effective date of this AD, do not install a FWC having a part number listed in paragraph (h)(1) of this AD or a FAC having a part number listed in paragraph (h)(2) of this AD.

(l) Retained Later Approved Parts, With a Different Effective Date

This paragraph restates the requirements of paragraph (l) of AD 2015-23-13, with a different effective date. Installation of a version (part number) of the FWC or FAC approved after March 5, 2015 (the effective date of European Aviation Safety Agency (EASA) AD 2014-0217R1), is an approved method of compliance with the requirements of paragraph (h) or (j) of this AD, provided the requirements specified in paragraphs (l)(1) and (l)(2) of this AD are met.

(1) The version (part number) must be approved by the Manager, International Branch, ANM-116, Transport Airplane Directorate, FAA; or EASA; or Airbus's EASA Design Organization Approval (DOA).

(2) The installation must be accomplished using a method approved by the Manager, International Branch, ANM-116, Transport Airplane Directorate, FAA; or EASA; or Airbus's EASA DOA.

(m) Credit for Previous Actions

(1) This paragraph restates the credit provided by paragraph (m)(1) of AD 2015-23-13. This paragraph provides credit for actions required by paragraph (g) of this AD, if those actions were performed before December 29, 2015 (the effective date of AD 2015-23-13) using the service information specified in paragraphs (m)(1)(i) or (m)(1)(ii) of this AD.

(i) Airbus Service Bulletin A320-22-1480, dated July 9, 2014.

(ii) Airbus Service Bulletin A320-22-1480, Revision 01, dated February 6, 2015.

(2) This paragraph restates the credit provided by paragraph (m)(2) of AD 2015-23-13. This paragraph provides credit for actions required by paragraph (i) of this AD, if those actions were performed before December 29, 2015 (the effective date of AD 2015-23-13) using the applicable Airbus service information identified in paragraphs (m)(2)(i) through (m)(2)(xviii) of this AD.

(i) Airbus Service Bulletin A320-22-1427, dated January 25, 2013.

(ii) Airbus Service Bulletin A320-22-1427, Revision 01, dated July 30, 2013.

(iii) Airbus Service Bulletin A320-22-1427, Revision 02, dated October 14, 2013.

(iv) Airbus Service Bulletin A320-22-1427, Revision 03, dated November 8, 2013.

(v) Airbus Service Bulletin A320-22-1427, Revision 04, dated February 11, 2014.

(vi) Airbus Service Bulletin A320-22-1447, dated October 18, 2013.

(vii) Airbus Service Bulletin A320-22-1447, Revision 01, dated September 18, 2014.

(viii) Airbus Service Bulletin A320-22-1447, Revision 02, dated December 2, 2014.

(ix) Airbus Service Bulletin A320-22-1461, dated October 31, 2013.

(x) Airbus Service Bulletin A320-22-1461, Revision 01, dated February 25, 2014.

(xi) Airbus Service Bulletin A320-22-1461, Revision 02, dated April 30, 2014.

(xii) Airbus Service Bulletin A320-22-1461, Revision 03, dated July 17, 2014.

(xiii) Airbus Service Bulletin A320-22-1461, Revision 04, dated September 15, 2014.

(xiv) Airbus Service Bulletin A320-22-1461, Revision 05, dated November 13, 2014.

(xv) Airbus Service Bulletin A320-22-1461, Revision 06, dated January 21, 2015.

(xvi) Airbus Service Bulletin A320-31-1414, dated December 19, 2012.

(xvii) Airbus Service Bulletin A320-31-1414, Revision 01, dated March 21, 2013.

(xviii) Airbus Service Bulletin A320-31-1414, Revision 02, dated July 30, 2013.

(3) This paragraph provides credit for actions required by paragraph (i) of this AD, if those actions were performed before the effective date of this AD using Airbus Service Bulletin A320-22-1539, dated December 28, 2015.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (o)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2015-23-13, are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) EASA Airworthiness Directive 2016-0132, dated July 5, 2016; corrected July 20, 2016; for related information. This MCAI may be found in the AD docket on the Internet at http://www.regulations.gov by searching for and locating Docket No. FAA-2016-9573.

(2) For more information about this AD, contact Sanjay Ralhan, Aerospace Engineer, International Branch, ANM-116, Transport Airplane Directorate, FAA, 1601 Lind Avenue SW., Renton, WA 98057-3356; telephone 425-227-1405; fax 425-227-1149.

(3) Service information identified in this AD that is not incorporated by reference is available at the addresses specified in paragraphs (p)(5) and (p)(6) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 3, 2017.

(i) Airbus Service Bulletin A320-22-1480, Revision 03, dated October 13, 2015.

(ii) Airbus Service Bulletin A320-22-1539, Revision 01, dated February 24, 2016.

(iii) Airbus Service Bulletin A320-22-1553, dated March 21, 2016.

(iv) Airbus Service Bulletin A320-22-1554, dated April 19, 2016.

(4) The following service information was approved for IBR on December 29, 2015 (80 FR 73099, November 24, 2015).

(i) Airbus Service Bulletin A320-22-1375, dated January 15, 2014.

(ii) Airbus Service Bulletin A320-22-1427, Revision 05, including Appendix 01, dated November 24, 2014.

(iii) Airbus Service Bulletin A320-22-1447, Revision 03, dated April 21, 2015.

(iv) Airbus Service Bulletin A320-22-1454, dated February 12, 2014.

(v) Airbus Service Bulletin A320-22-1461, Revision 07, including Appendix 01, dated March 23, 2015.

(vi) Airbus Service Bulletin A320-22-1480, Revision 02, dated March 30, 2015.

(vii) Airbus Service Bulletin A320-22-1502, dated November 14, 2014.

(viii) Airbus Service Bulletin A320-31-1414, Revision 03, dated September 15, 2014.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on June 16, 2017.
Michael Kaszycki,
Acting Manager, Transport Airplane Directorate, Aircraft Certification Service.

[FR Doc. 2017-13407 Filed 6-28-17; 8:45 am]

BILLING CODE 4910-13-P